DEPARTMENT OF COMMERCE

National Oceanic and Atmospheric Administration

[RTID 0648-XD489]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Habitat Joint Advisory Panel and Committee to consider actions affecting New England fisheries in the exclusive economic zone (EEZ). This meeting will be held in-person with a webinar option. Recommendations from this group will be brought to the full Council for formal consideration and action, if appropriate.

DATES: This hybrid meeting be held on Tuesday, November 14, 2023, at 9 a.m.

ADDRESSES:

Meeting address: This meeting will be held at the Four Points by Sheraton, One Audubon Road, Wakefield, MA 01880; telephone: (781) 245-9300.

Webinar registration URL information: https://attendee.gotowebinar.com/register/5291714603459595103.

Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

Agenda

The Advisory Panel and Committee plan to discuss progress towards developing alternatives and analyses for the Northern Edge Habitat-Scallop Framework and provide guidance to the Plan Development Team. They will briefly discuss findings of the joint Mid-Atlantic Fishery Management Council-New England Fishery Management Council Scientific and Statistical Committee (MAFMC-NEFMC SSC) subpanel essential fish habitat (EFH) methods review and consider next steps for the Council's management action. They also plan to discuss current issues and comment opportunities related to offshore wind or other offshore development projects and provide guidance as appropriate. This will include reviewing and commenting on draft Wind Energy Areas and suitability modeling for the Gulf of Maine. The Panel and Committee plan to discuss and rank 2024 work priorities related to habitat and offshore development issues for Council consideration in December. Other business will be discussed, if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Ph.D., Executive Director, at (978) 465-0492, at least 5 days prior to the meeting date.

Authority: 16 U.S.C. 1801 et seq.

Dated: October 25, 2023.
Rey Israel Marquez,
Acting Deputy Director, Office of Sustainable Fisheries, National Marine Fisheries Service.

[FR Doc. 2023-23886 Filed 10-27-23; 8:45 am]

BILLING CODE 3510-22-P